DEPARTMENT OF THE INTERIOR

Fish and Wildlife Service

Notice of Availability, Draft Restoration Plan and Environmental Assessment

AGENCY: U.S. Fish and Wildlife Service, Department of the Interior.

ACTION: Notice of availability.

SUMMARY: The U.S. Fish and Wildlife Service (Service), on behalf of the Department of the Interior (DOI), as the natural resource trustee, announces the release for public review of the Draft Natural Resource Damages Restoration Plan and Environmental Assessment (RP/EA) for the John Heinz National Wildlife Refuge at Tinicum (JHNWR). The Draft RP/EA presents a preferred alternative that compensates for impacts to natural resources caused by: (1) The release of oil at the JHNWR; and (2) the release of hazardous substances from the Publicker Industries Inc. National Priorities List Superfund Site. Natural resource damages received from the impacts from the release of oil and hazardous substances are being combined and used for restoration activities at the JHNWR.

DATES: Written comments must be submitted on or before November 27, 2006.

ADDRESSES: Copies of the RP/EA are available for review during office hours at: U.S. Fish and Wildlife Service, John Heinz National Wildlife Refuge at Tinicum, 8601 Lindbergh Boulevard, Philadelphia, Pennsylvania 19153, and online at http://heinz.fws.gov. Requests for copies of the RP/EA may be made to the same address and to: U.S. Fish and Wildlife Service, Pennsylvania Field Office, 315 South Allen Street, Suite 322, State College, Pennsylvania 16801.

Written comments or materials regarding the RP/EA should be sent to the State College address.

FOR FURTHER INFORMATION CONTACT: Melinda Turner, Environmental Contaminants Program, U.S. Fish and Wildlife Service, Pennsylvania Field Office, 315 South Allen Street, Suite 322, State College, Pennsylvania 16801. Interested parties may also call 814-234-4090 or e-mail Melinda_Turner@fws.gov for further information.

SUPPLEMENTARY INFORMATION: In July 2005, the DOI, acting as natural resource Trustee, reached a natural resource damages settlement in the amount of $865,000 for natural resource injuries associated with the discharge of oil that occurred on February 2, 2000, at the JHNWR. The discharge of oil and the remedial activities injured Service trust resources (migratory birds and Federal lands).

In addition, the DOI reached two settlement agreements between 1989 and 1996 for natural resource injuries associated with the Publicker Industries Inc. Superfund Site, located approximately 7 miles upstream from the JHNWR. Natural resource injuries associated with the Publicker Site included injuries to Service trust resources (migratory birds and anadromous fish) from the discharge of hazardous substances. Because of the similar resource injuries associated with the sites, an opportunity exists to combine the Sunoco settlement funds with those acquired from the settlements from the nearby Publicker Superfund Site to create a larger-scale restoration action. The combined funds available for restoration activities from the oil release and Publicker settlements total $1,523,845. Restoration projects proposed in the Draft RP/EA include wetland restoration at the JHNWR.

The RP/EA is being released in accordance with the Oil Pollution Act of 1990, (33 U.S.C. et seq.), the Comprehensive Environmental Response, Compensation, and Liability Act of 1980 as amended, commonly known as Superfund, (42 U.S.C. 9601 et seq.), the Natural Resource Damage Assessment Regulations found at 43 CFR, part 11, and the National Environmental Policy Act. It is intended to describe and evaluate the Trustee's proposal to restore natural resources injured by the release of oil at the JHNWR and release of hazardous substances from the Publicker National Priorities List Superfund Site.

The RP/EA describes and compares a reasonable number of habitat restoration alternatives. Restoration projects which provide similar services as those impacted by the release of oil and hazardous substances and coincide with the primary goals of the JHNWR are preferred. Based on an evaluation of the various restoration alternatives, the preferred alternative consists of removing filled material to restore freshwater tidal wetland at the JHNWR. Restoration of wetlands will compensate for injuries to natural resources, including migratory birds, migratory bird habitat, anadromous fish, and Federal lands.

Interested members of the public are invited to review and comment on the RP/EA. Copies of the RP/EA are available for review at the John Heinz National Wildlife Refuge, 8601 Lindbergh Boulevard, Philadelphia, Pennsylvania 19153, and online at http://heinz.fws.gov. Requests for copies of the RP/EA may be made to the same address and to the Service's Pennsylvania Field Office at 315 South Allen Street, Suite 322, State College, Pennsylvania 16801. Written comments will be considered and addressed in the final RP/EA at the conclusion of the restoration planning process.

Author: The primary author of this notice is Melinda Turner, U.S. Fish and Wildlife Service, Pennsylvania Field Office, 315 South Allen Street, Suite 322, State College, Pennsylvania 16801.

Authority: The authority for this action is the Oil Pollution Act of 1990, (33 U.S.C. et seq.), the Comprehensive Environmental Response, Compensation, and Liability Act of 1980 as amended, commonly known as Superfund, (42 U.S.C. 9601 et seq.), and the Natural Resource Damage Assessment Regulations found at 43 CFR part 11.

Dated: September 15, 2006.
Anthony D. Leger,
Acting Regional Director, Region 5, U.S. Fish and Wildlife Service, U.S. Department of the Interior, DOI Designated Authorized Official.

[FR Doc. E6-16878 Filed 10-25-06; 8:45 am]

BILLING CODE 4310-55-P